ENVIRONMENTAL PROTECTION AGENCY

[FRL-9975-26—Region 6]

Clean Air Act Operating Permit Program; Petitions for Objection to State Operating Permit for ExxonMobil Corporation, ExxonMobil Baytown Olefins Plant, Harris County, Texas

AGENCY: Environmental Protection Agency (EPA).

ACTION: Notice of final Order on Petition for objection to Clean Air Act title V operating permit.

SUMMARY: The Environmental Protection Agency (EPA) Administrator signed an Order dated March 1, 2018, denying a Petition dated August 8, 2016 from the Environmental Integrity Project, Sierra Club, and Air Alliance Houston. The Petition requested that the EPA object to a Clean Air Act (CAA) title V operating permit issued by the Texas Commission on Environmental Quality (TCEQ) to ExxonMobil Corporation (ExxonMobil) for its Baytown Olefins Plant located in Harris County, Texas.

ADDRESSES: The EPA requests that you contact the individual listed in the FOR FURTHER INFORMATION CONTACT section to view copies of the final Order, the Petition, and other supporting information. You may review copies of the final Order, the Petition, and other supporting information at the EPA Region 6 Office, 1445 Ross Avenue, Dallas, Texas 75202-2733. You may view the hard copies Monday through Friday, from 9 a.m. to 3 p.m., excluding federal holidays. If you wish to examine these documents, you should make an appointment at least 24 hours before the visiting day. Additionally, the final Order and Petition are available electronically at: https://www.epa.gov/title-v-operating-permits/title-v-petition-database.

FOR FURTHER INFORMATION CONTACT: Aimee Wilson, EPA Region 6, (214) 665-7596, wilson.aimee@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project, Sierra Club, and Air Alliance Houston dated August 8, 2016, requesting that the EPA object to the issuance of operating permit no. O1553, issued by TCEQ to ExxonMobil Baytown Olefins Plant in Harris County, Texas. The Petition claims that: (1) TCEQ did not have the authority to create a federally-enforceable PAL permit at the time PAL6 was issued, (2) the PAL6 permit is not federally enforceable because of alleged defects with how TCEQ calculated the facility's baseline emissions, and (3) PAL6 does not establish a PAL for PM2.5.

On March 1, 2018, the EPA Administrator issued an Order denying the Petition. The Order explains the basis for EPA's decision.

Sections 307(b) and 505(b)(2) of the CAA provide that a petitioner may request judicial review of those portions of an order that deny issues in a petition. Any petition for review shall be filed in the United States Court of Appeals for the appropriate circuit no later than May 22, 2018.

Dated: March 16, 2018.
Anne Idsal,
Regional Administrator, Region 6.

[FR Doc. 2018-05970 Filed 3-22-18; 8:45 am]

BILLING CODE 6560-50-P